DEPARTMENT OF LABOR

Employment and Training Administration

[TA-W-50,059]

Flowserve, Williamsport, PA; Notice of Negative Determination Regarding Application for Reconsideration

By application of March 18, 2003, petitioners requested administrative reconsideration of the Department's negative determination regarding eligibility to apply for Trade Adjustment Assistance (TAA), applicable to workers and former workers of the subject firm. The denial notice was signed on February 19, 2003, and published in the Federal Register on March 10, 2003 (68 FR 11409).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Flowserve, Williamsport, Pennsylvania was denied because the “contributed importantly” group eligibility requirement of Section 222(3) of the Trade Act of 1974, as amended, was not met.

The petitioners allege that they are import impacted because their company's contract with a foreign customer “specifies that 50% of the contract work will be done at (foreign) facilities.” Further, the petitioners note that Flowserve is required to buy valves and materials from foreign vendors and re-sell them to their foreign customer “thus taking work away from Williamsport.”

Contact with a company official confirmed that all production for this customer was exclusively for export purposes.

As trade adjustment assistance is concerned exclusively with whether imports impact layoffs of petitioning worker groups, the above-mentioned allegations regarding agreements between the subject firm and their foreign customer base are irrelevant.

The petitioners list several Flowserve affiliates that have been certified for trade adjustment assistance due to import impact, and suggest that, as a result, the petitioning worker group should be equally eligible.

In fact, all of the facilities listed by the petitioners were certified due to increased imports from the company of products like or directly competitive with those produced at the certified facilities. In the case of the subject firm, sales and production were relatively stable during the investigative period and any declines immediately prior to plant closure corresponded with a shift of production to an affiliated domestic facility. There was no evidence of import impact; as has been established above, the only foreign production impact allegations did not concern imports.

Conclusion

After review of the application and investigative findings, I conclude that there has been no error or misinterpretation of the law or of the facts which would justify reconsideration of the Department of Labor's prior decision. Accordingly, the application is denied.

Signed at Washington, DC this 8th day of April, 2003.
Edward A. Tomchick
Director, Division of Trade Adjustment Assistance.

[FR Doc. 03-9148 Filed 4-14-03; 8:45 am]

BILLING CODE 4510-30-P